DEPARTMENT OF ENERGY

Federal Energy Regulatory Commission

[Docket No. CP22-41-000]

Cameron LNG, LLC; Notice of Schedule for the Preparation of an Environmental Assessment for the Cameron LNG Amended Expansion Project

On January 18, 2022, Cameron LNG, LLC (Cameron LNG) filed an application in Docket No. CP22-41-000 requesting to amend its authorization under section 3 of the Natural Gas Act for the Cameron Expansion Project issued on May 5, 2016 (Docket No. CP15-560-000). The proposed project is known as the Cameron LNG Amended Expansion Project (Project Amendment), and would reduce the overall production capacity of Cameron LNG's liquefaction terminal from 9.97 to 6.75 million tons of liquefied natural gas per annum.

On January 28, 2022, the Federal Energy Regulatory Commission (Commission or FERC) issued its Notice of Application for the Project Amendment. Among other things, that notice alerted agencies issuing federal authorizations of the requirement to complete all necessary reviews and to reach a final decision on a request for a federal authorization within 90 days of the date of issuance of the Commission staff's environmental document for the Project Amendment.

This notice identifies Commission staff's intention to prepare an environmental assessment (EA) for the Project Amendment and the planned schedule for the completion of the environmental review.¹

¹ 40 CFR 1501.10 (2020).

Schedule for Environmental Review

Issuance of EA—December 2, 2022

90-day Federal Authorization Decision Deadline ²—March 2, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project Amendment's progress.

Project Description

Cameron LNG proposes to no longer construct the authorized Train 5; modify the approved Train 4 and perform associated design enhancements; and perform an additional design enhancement to allow simultaneous loading of two liquefied natural gas vessels at a rate of 12,000 cubic meters/hour at both the North and South Jetties. The Project Amendment facilities would be within the existing footprint authorized by the Commission for the Expansion Project (Docket No. CP15-560-000) in Cameron and Calcasieu Parishes, Louisiana.

Background

On March 31, 2022, the Commission issued a Notice of Scoping Period Requesting Comments on Environmental Issues for the Proposed Cameron LNG Amended Expansion Project and Notice of Public Scoping Session (Notice of Scoping). The Notice of Scoping was sent to affected landowners; federal, state, and local government agencies; elected officials; environmental and public interest groups; Native American tribes; other interested parties; and local libraries and newspapers. In response to the Notice of Scoping, the Commission received comments from the U.S. Fish and Wildlife Service, stating they had no comments on the Project Amendment. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” (i.e., CP22-41-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 27, 2022.
Kimberly D. Bose,
Secretary.

[FR Doc. 2022-09450 Filed 5-2-22; 8:45 am]

BILLING CODE 6717-01-P